DEPARTMENT OF COMMERCE

Foreign-Trade Zones Board

[Order No. 1684]

Expansion of Foreign-Trade Zone 119; Minneapolis-St. Paul Area

Pursuant to its authority under the Foreign-Trade Zones Act of June 18, 1934, as amended (19 U.S.C. 81a-81u), the Foreign-Trade Zones Board (the Board) adopts the following Order:

Whereas, the Greater Metropolitan Area Foreign Trade Zone Commission, grantee of FTZ 119, submitted an application to the Foreign-Trade Zones (FTZ) Board (the Board) for authority to add proposed Sites 7 and 8 in the Minneapolis-St. Paul area, adjacent to the Minneapolis-St. Paul Customs and Border Protection port of entry (FTZ Docket 23-2009, filed 05/21/09);

Whereas, notice inviting public comment was given in the Federal Register (74 FR 26652, 6/3/09), and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 119 is approved, subject to the FTZ Act and the Board's regulations, including Section 400.28, and subject to the standard 2,000-acre activation limit for the overall general-purpose zone project, and further subject to a sunset provision that would terminate authority on June 30, 2017 for Sites 7 and 8 where no activity has occurred under FTZ procedures before that date.

Signed at Washington, DC, this 4th day of June 2010.
Ronald K. Lorentzen,
Deputy Assistant Secretary for Import Administration, Alternate Chairman, Foreign-Trade Zones Board.

[FR Doc. 2010-14549 Filed 6-15-10; 8:45 am]

BILLING CODE P